DEPARTMENT OF TRANSPORTATION

National Highway Traffic Safety Administration

[Docket No. DOT-NHTSA-2018-0094]

Paperwork Reduction Act 60-Day Notice; Request for Comments

AGENCY: National Highway Traffic Safety Administration (NHTSA), Department of Transportation (DOT).

ACTION: Notice and request for comments.

SUMMARY: The Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Comments must be received on or before April 2, 2019.

ADDRESSES: You may submit comments [identified by Docket No. DOT-NHTSA-2018-0094] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Barbara Rhea, State Data Reporting Systems Division (NSA-120), Room W53-304, 1200 New Jersey Avenue SE, Washington, DC 20590. Ms. Rhea can also be reached via email at barbara.rhea@dot.gov or via phone at 202-366-2714. Please identify the relevant collection of information by referring to its OMB Control Number.

SUPPLEMENTARY INFORMATION:

Title: Fatality Analysis Reporting System (FARS) Information Collection.

OMB Control Number: 2127-0006.

Type of Request: Extension of a currently approved collection of information.

Abstract: Under both the Highway Safety Act of 1966 and the National Traffic and Motor Vehicle Safety Act of 1966 (Pub. L. 89-563, Title 1, Sec. 106, 108, and 112) the National Highway Traffic Safety Administration (NHTSA) has the responsibility to collect accident data that support the establishment and enforcement of motor vehicle regulations and highway safety programs. These regulations and programs are developed to reduce fatalities and the property damage associated with motor vehicle crashes. NHTSA established cooperative agreements with the 50 States, the District of Columbia and Puerto Rico to report a standard set of data on each fatal accident. State employees extract and transcribe information from existing State files including police accident crash reports as well as driver license, vehicle registration, highway department, and vital statistics files. This information comprises a national database, Fatality Analysis Reporting System (FARS), that is NHTSA's and many States' principal means of tracking trends in fatalities and quantifying problems or potential problems in highway safety.

Because FARS is an on-going data acquisition system, reviews are conducted yearly to determine whether the data acquired are responsive to the total user population needs. FARS data are used extensively by all the NHTSA program and research offices and other DOT modes such as Federal Highway Administration and Federal Motor Carrier Safety Administration. Annual changes in the data collected in FARS are minor in terms of operation and method of data acquisition and do not affect the reporting burden of the respondent (State employees utilize existing State crash files). The changes usually involve clarifying adjustments to aid statisticians in conducting more precise analyses and to remove potential ambiguity for the respondents.

Affected Public: State, Local and Tribal Government.

Estimated Number of Respondents: 52.

Frequency: On-going.

Estimated Total Annual Burden Hours: 106,244 hours.

Public Comments Invited: You are asked to comment on any aspect of this information collection, including (i) whether the proposed collection of information is necessary for the Department's performance; (ii) if the information will have practical utility; (iii) the accuracy of the estimated burden of the proposed information collection; (iv) ways to enhance the quality, utility and clarity of the information to be collected; and (v) ways to minimize the burden of the collection of information on respondents including the use of automated collection techniques or other forms of information technology. The agency will summarize and/or include your comments in the request for OMB's clearance of this information collection.

Authority: The Paperwork Reduction Act of 1995; 44 U.S.C. Chapter 35, as amended; and 49 CFR 1:48.

Cem Hatipoglu,
Acting Associate Administrator, National Center for Statistics and Analysis.

[FR Doc. 2019-00744 Filed 1-31-19; 8:45 am]

BILLING CODE 4910-59-P